ENVIRONMENTAL PROTECTION AGENCY

[FRL-9672-01-R9]

Revision of Approved State Primacy Program for the State of Nevada

AGENCY: Environmental Protection Agency (EPA).

ACTION: Notice of approval.

SUMMARY: Notice is hereby given that the State of Nevada revised its approved State primacy program under the Federal Safe Drinking Water Act (SDWA) by adopting regulations that effectuate the Federal Consumer Confidence Report Rule (CCR). The Environmental Protection Agency (EPA) has determined that Nevada's revision request meets the applicable SDWA program revision requirements and the regulations adopted by Nevada are no less stringent than the corresponding Federal regulations. Therefore, EPA approves this revision to Nevada's approved State primacy program. However, this determination on Nevada's request for approval of a program revision shall take effect in accordance with the procedures described below in the SUPPLEMENTARY INFORMATION section of this notice after the opportunity to request a public hearing.

DATES: A request for a public hearing must be received or postmarked before May 12, 2022.

ADDRESSES: Documents relating to this determination that were submitted by Nevada as part of its program revision request are available for public inspection online at https://ndep.nv.gov/posts. In addition, these documents are available by appointment between the hours of 8:30 a.m. and 4:00 p.m., Monday through Friday, except official State or Federal holidays, at the following address: Nevada Division of Environmental Protection, Administration Office, 901 South Stewart Street, Suite 4001, Carson City, NV 89701. Please contact the Bureau of Safe Drinking Water at (775) 687-9521 to schedule an appointment.

FOR FURTHER INFORMATION CONTACT: Samantha Bishop, EPA Region 9, Drinking Water Section; via telephone at 415-972-3411 or via email address at bishop.samantha@epa.gov.

SUPPLEMENTARY INFORMATION:

Background. EPA approved Nevada's initial application for primary enforcement authority (“primacy”) of drinking water systems on February 27, 1978 (43 FR 8030). Since initial primacy approval, EPA has approved various revisions to Nevada's primacy program. For the revision covered by this action, EPA promulgated the CCR at 40 CFR 141.151-141.155 on August 19, 1998 (63 FR 44512). EPA promulgated the CCR to give consumers information regarding their drinking water so that they are able to make personal health-based decisions regarding their drinking water consumption. EPA has determined that the CCR requirements were adopted into the Nevada Administrative Code (NAC) Title 40 Chapter 445A, in a manner that Nevada's regulations are comparable to and no less stringent than the Federal requirements. EPA has also determined that the State's program revision request meets all of the regulatory requirements for approval, as set forth in 40 CFR 142.12, including a side-by-side comparison of the Federal requirements demonstrating the corresponding State authorities, additional materials to support special primacy requirements of 40 CFR 142.16, a review of the requirements contained in 40 CFR 142.10 necessary for States to attain and retain primary enforcement responsibility, and a statement by the Nevada Attorney General certifying that Nevada's laws and regulations to carry out the program revision were duly adopted and are enforceable. The Attorney General's statement also affirms that there are no environmental audit privilege and immunity laws that would impact Nevada's ability to implement or enforce the Nevada laws and regulations pertaining to the program revision. Therefore, EPA approves this revision of Nevada's approved State primacy program. The Technical Support Document, which provides EPA's analysis of Nevada's program revision request, is available by submitting a request to the following email address: R9dw-program@epa.gov. Please note “Technical Support Document” in the subject line of the email.

Public Process. Any interested person may request a public hearing on this determination. A request for a public hearing must be received or postmarked before May 12, 2022 and addressed to the Regional Administrator of EPA Region 9, via the following email address: R9dw-program@epa.gov, or by contacting the EPA Region 9 contact person listed above in this notice by telephone if you do not have access to email. Please note “Nevada Program Revision Determination” in the subject line of the email. The Regional Administrator may deny frivolous or insubstantial requests for a hearing. If a timely request for a public hearing is made, then EPA Region 9 may hold a public hearing. Any request for a public hearing shall include the following information: 1. The name, address, and telephone number of the individual, organization, or other entity requesting a hearing; 2. A brief statement of the requesting person's interest in the Regional Administrator's determination and of information that the requesting person intends to submit at such hearing; and 3. The signature of the individual making the request, or, if the request is made on behalf of an organization or other entity, the signature of a responsible official of the organization or other entity.

If EPA Region 9 does not receive a timely request for a hearing or a request for a hearing was denied by the Regional Administrator for being frivolous or insubstantial, and the Regional Administrator does not elect to hold a hearing on their own motion, EPA's approval shall become final and effective on May 12, 2022, and no further public notice will be issued.

Authority: Section 1413 of the Safe Drinking Water Act, as amended, 42 U.S.C. 300g-2 (1996), and 40 CFR part 142 of the National Primary Drinking Water Regulations.

Dated: April 1, 2022.
Martha Guzman Aceves,
Regional Administrator, EPA Region 9.

[FR Doc. 2022-07858 Filed 4-8-22; 4:15 pm]

BILLING CODE 6560-50-P